DEPARTMENT OF AGRICULTURE

Submission for OMB Review; Comment Request; Reinstatement

The Department of Agriculture will submit the following information collection requirement(s) to OMB for review and reinstatement under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by July 16, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Local Food Marketing Practices Survey.

OMB Control Number: 0535-0259.

Summary of Collection: The information to be gathered in the Local Food Marketing Practices Survey (LFMPS) is vital to the USDA's and the public's understanding of the local foods sector, which in turn informs policymaking and program implementation. Section 10016(a)(1)(A) of the 2014 Farm Bill (Pub. L. 113-79) directs USDA to collect data on “the production and marketing of locally or regionally produced agricultural food products,” while Section 10016(b)(2) requires the Department to “conduct surveys and analysis and publish reports relating to the production, handling, distribution, retail sales, and trend studies . . . of or on locally or regionally produced agricultural food products.” This survey fulfills those requirements. Federal funding to the local foods sector has increased under the 2002 Farm Bill (Pub. L. 107-171), the 2008 Farm Bill (Pub. L. 110-246), the 2014 Farm Bill (Pub. L. 113-79), and the 2018 Farm Bill (Pub. L. 115-334). The LFMPS is a follow-on to the Census of Agriculture that is conducted every five years and was last completed for the 2020 calendar year (2017 Census of Agriculture). There are no significant changes to the methodology or procedures from what was conducted in 2021 for the 2020 calendar year (2017 Census of Agriculture).

Need and Use of the Information: The Local Food Marketing Practices Survey (LFMPS) is valuable because local farms have different business models than conventional farms, and the LFMPS is able to discern important data that are otherwise unavailable from pre-existing farmer surveys. This includes details on different types of market channels used, information about on-farm value-added processing, and outreach and advertising directly to community members and shoppers. Food and agriculture economists and other researchers in university, government, and nonprofit sectors analyze and rely on the data in this survey to understand local food marketing practices, make programmatic decisions, and support farms and related food production, aggregation, and distribution businesses.

Because the survey gathers data on production, risk management, and marketing practices, it will be used by a number of USDA agencies and federal policymakers to inform their policies and programs. Just some of the USDA agencies that will benefit from this data are Farm Service Agency (FSA), Risk Management Agency (RMA), Rural Development (RD), Agricultural Marketing Service (AMS), and Food and Nutrition Service (FNS). Farms in all 50 states will be asked to provide these data. Statistics from this survey will be used by state agencies to better understand, support, and promote their local food markets, as well as by researchers studying local foods.

Description of Respondents: Farmers and Ranchers.

Number of Respondents: 65,000.

Frequency of Responses: Reporting: Annually.

Total Burden Hours: 73,841.

Levi S. Harrell,
Departmental Information Collection Clearance Officer.

[FR Doc. 2025-11042 Filed 6-13-25; 8:45 am]

BILLING CODE 3410-20-P